DEPARTMENT OF TRANSPORTATION

Surface Transportation Board

[STB Finance Docket No. 35125]

Dakota, Minnesota & Eastern Railroad Corporation—Acquisition Exemption—Line of BNSF Railway Company

AGENCY: Surface Transportation Board, DOT.

ACTION: Notice of exemption.

SUMMARY: Under 49 U.S.C. 10502, the Board is granting a petition for exemption from the prior approval requirements of 49 U.S.C. 10902 for Dakota, Minnesota & Eastern Railroad Corporation to acquire from BNSF Railway Company an approximately 3.5-mile rail line, known as the Yale Extension, extending from milepost 145.0 to milepost 148.5 in Yale, SD. The exemption is subject to employee protective conditions.

DATES: The exemption will be effective on June 13, 2008. Petitions to stay must be filed by May 29, 2008. Petitions to reopen must be filed by June 9, 2008.

ADDRESSES: An original and 10 copies of all pleadings, referring to STB Finance Docket No. 35125, must be filed with the Surface Transportation Board, 395 E Street, SW., Washington, DC 20423-0001. In addition, one copy of all pleadings must be served on petitioner's representative: William C. Sippel, Fletcher & Sippel LLC, 29 North Wacker Drive, Suite 920, Chicago, IL 60606-2832.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. Board decisions and notices are available on our Web site at http://www.stb.dot.gov.

Decided: May 8, 2008.
By the Board, Chairman Nottingham, Vice Chairman Mulvey, and Commissioner Buttrey.
Anne K. Quinlan,
Acting Secretary.

[FR Doc. E8-10833 Filed 5-13-08; 8:45 am]

BILLING CODE 4915-01-P